DEPARTMENT OF COMMERCE

National Oceanic and Atmospheric Administration

RIN 0648-XG520

Western Pacific Fishery Management Council; Public Meetings

AGENCY: National Marine Fisheries Service (NMFS), National Oceanic and Atmospheric Administration (NOAA), Commerce.

ACTION: Notice of public meetings and partially closed meeting.

SUMMARY: The Western Pacific Fishery Management Council (Council) will hold its 130th Scientific and Statistical Committee (SSC) meeting and its 174th Council meeting to take actions on fishery management issues in the Western Pacific Region. A portion of the 174th Council meeting will be closed to the public. The Council will also hold meetings of the following advisory groups and standing committees: Mariana Archipelago Advisory Panel (AP); Commonwealth of the Northern Mariana Islands (CNMI) Regional Ecosystem Advisory Committee (REAC); Pelagic and International Standing Committee (P&I SC); Fishery Data Collection and Research Committee (FDCRC); Executive and Budget Standing Committee (E&B SC); and Guam REAC.

DATES: The meetings will be held between October 15 and October 27, 2018. For specific times and agendas, see SUPPLEMENTARY INFORMATION.

ADDRESSES: The 130th SSC will be held at the Naniloa Hotel DoubleTree by Hilton, 93 Banyan Dr, Hilo, HI 96720. The Mariana Archipelago AP and Guam REAC will be held at Hilton Guam Resort and Spa, 202 Hilton Road, Tumon Bay, Guam 96913, phone: (671) 646-1835. The CNMI REAC, P&I SC, FDCRC, and E&B SC will be held at the Saipan Fiesta Resort and Spa, P.O. Box 501029, Saipan, MP 96950, telephone: (670) 234-6412. The first two days of the 174th Council meeting and the CNMI Fishers Forum will be held at Saipan Fiesta Resort and Spa, P.O. Box 501029, Saipan, MP 96950, telephone: (670) 234-6412 and the last two days of the Council meeting and the Guam Fishers Forum will be held at the Hilton Guam Resort and Spa, 202 Hilton Road, Tumon Bay, Guam 96913, telephone: (671) 646-1835.

FOR FURTHER INFORMATION: Contact Kitty M. Simonds, Executive Director, Western Pacific Fishery Management Council; phone: (808) 522-8220.

SUPPLEMENTARY INFORMATION: The 130th SSC meeting will be held between 8:30 a.m. and 5 p.m. on October 15-17, 2018. The Mariana Archipelago AP will be held between 8:30 a.m. and 4 p.m. on October 20, 2018. The CNMI REAC and P&I SC will be held between 8:30 a.m. and 12 p.m. on October 22, 2018. The FDCRC will be held between 1 p.m. and 3 p.m. on October 22, 2018. The E&B SC will be held between 3 p.m. and 5 p.m. on October 22, 2018. The Guam REAC will be held between 1 p.m. and 4 p.m. on October 25, 2018. The first two days of the 174th Council Meeting will be held between 8:30 a.m. and 5 p.m. on October 23 and 24, 2018. The portion of the 174th Council meeting from 1 p.m. to 1:30 p.m. on Tuesday, October 23, 2018, will be closed to the public in accordance with section 302(i)(3) of the Magnuson-Stevens Fishery Conservation and Management Act (MSA). The CNMI Fishers Forum will be held between 6 p.m. and 9 p.m. on October 23, 2018. Public Comment on Non-Agenda Items will be held between 4 p.m. and 5 p.m. on October 24, 2018. The last two days of the 174th Council Meeting will be held between 8:30 a.m. to 5 p.m. on October 26 and 27, 2018. The Guam Fishers Forum will be held between 6 p.m. and 9 p.m. on October 26, 2018. All times listed are local island times. Agenda items noted as “Final Action Items” refer to actions that result in Council transmittal of a proposed fishery management plan, proposed plan amendment, or proposed regulations to the U.S. Secretary of Commerce, under Sections 304 or 305 of the MSA. In addition to the agenda items listed here, the Council and its advisory bodies will hear recommendations from Council advisors. Opportunities to submit public comment will be provided throughout the agendas. The order in which agenda items are addressed may change and will be announced in advance at the Council meeting. The meetings will run as late as necessary to complete scheduled business. Background documents will be available from and written comments should be sent to Kitty M. Simonds, Executive Director; Western Pacific Fishery Management Council, 1164 Bishop Street, Suite 1400, Honolulu, HI 96813, phone: (808) 522-8220 or fax: (808) 522-8226.

Agenda for 130th SSC Meeting

Monday, October 15, 2018, 8:30 a.m. to 5 p.m.

1. Introductions

2. Approval of Draft Agenda and Assignment of Rapporteurs

3. Status of the 129th SSC Meeting Recommendations

4. Report from the Pacific Islands Fisheries Science Center (PIFSC) Director

A. Pacific Islands Ecosystem Based Fishery Management Regional Implementation Plan

B. Large Marine Ecosystems Initiative

5. Insular Fisheries

A. Review of the Western Pacific Stock Assessment Review Terms of Reference for the Territory Bottomfish Benchmark Stock Assessment

B. Specification of Acceptable Biological Catches (ABC) for the Following Management Unit Species/Complexes (MUS) (Action Item)

1. Hawaii Non-Deep 7 Bottomfish for Fishing Year 2019 to 2021

2. Hawaii Kona Crab for Fishing Year 2019

3. Hawaii Deep Water Shrimp and Precious Corals for Fishing Year 2019 to 2021

4. Territory Bottomfish for Fishing Year 2019

C. Refinement of the Precious Coral Essential Fish Habitat (EFH)

D. Public Comment

E. SSC Discussion and Recommendations

6. Program Planning and Research

A. Discussion Paper on the Applicability of the National Standard 1 (NS1) Carry-Over Provisions to the Western Pacific Archipelagic Fisheries

B. Re-authorized Magnuson-Stevens Act (MSRA) Five Year Research Priority 2020-24

1. Report on the MSRA Five Year Research Priority Workshop

2. SSC Work Session to Refine the MSRA Research Priority

C. Public Comment

D. SSC Discussion and Recommendations

Tuesday, October 16, 2018, 8:30 a.m. to 5 p.m.

7. Pelagic Fisheries

A. American Samoa Longline Fishery Report

B. Hawaii Longline Report Fishery Report

C. Mandatory Electronic Reporting for the Hawaii Longline Fishery (Action Item)

D. Hawaii Shallow-Set Longline Fishery

1. ESA Consultation for the Hawaii Shallow-set Longline Fishery

a. Status of the ESA Consultation and Overview of the Draft Biological Opinion

b. Loggerhead and Leatherback Turtle Population Vulnerability Assessments

c. SSC Working Group Input on the Biological Opinion Analysis Plan

2. Managing Loggerhead and Leatherback Sea Turtle Interactions in the Hawaii-based Shallow-set Longline Fishery (Action Item)

C. International Fisheries Meetings

1. International Scientific Committee 2018

2. 93rd Inter-American Tropical Tuna Commission (IATTC) meeting

3. Western Central Pacific Fisheries Commission (WCPFC)

a. Electronic Monitoring Working Group

b. 14th Scientific Committee (SC)

c. Northern Committee (NC)

d. Technical Compliance Committee (TCC)

e. Permanent Advisory Committee (PAC)

D. Public Comment

E. SSC Discussion and Recommendations

8. Protected Species

A. Factors Influencing Olive Ridley Turtle Interaction Patterns in the Hawaii Deep-set Longline Fishery

B. Report of the Seabird Bycatch Mitigation Workshop

C. Status of the False Killer Whale Take Reduction Team Recommendations

D. Updates on Endangered Species Act and Marine Mammal Protection Act Actions

E. Public Comment

F. SSC Discussion and Recommendations

Wednesday, October 17, 2018, 8:30 a.m. to 5 p.m.

9. Other Business

A. 131st SSC Meeting

10. Summary of SSC Recommendations to the Council

Agenda for the Mariana Archipelago Advisory Panel Joint Meeting

Saturday, October 20, 2018, 8:30 a.m. to 4 p.m.

1. “Hafa Adai”—Welcome and Introductions

2. Guest Speaker: Advocating for Mariana Fisheries

3. Review of Recent AP Meeting Recommendations

4. Review of Council Action Items

a. Specification for Bottomfish Annual Catch Limits for 2019

b. Alternatives for Aquaculture Management

c. Update on Marine Conservation Plans Projects

d. Refining Precious Coral EFH

5. Marianas AP Community Issues

a. Update on Mandatory Licensing and Reporting

b. Update on Commercial Reporting System and Spearfishing Projects

c. Guam Marine Resource Import Database

d. Guam Ocean Fishery Management Council Update

6. Marianas Fishery Ecosystem Plans (FEP) AP Issues

a. CNMI

b. Guam

7. The AP and the Council's Five-Year Program Plan

8. Public Comments

9. Discussion and Recommendations

10. “At the End of the Day”—Other Business

Agenda for the CNMI REAC Meeting

Monday, October 22, 2018, 8:30 a.m. to 12 p.m.

1. Welcome and Introductions

2. Review of 2017 REAC Meeting

3. Mandatory Permit and Reporting

4. Mariana Small-boat Economic Survey

5. Council Projects

a. Improving the Commercial Reporting System

b. Outcomes of the Noncommercial Spearfishing Project

6. Council 5-year Program Plan

a. Drivers, Programs and Priorities

b. Research Priorities

7. Aquaculture

8. Public Comment

9. Other Business

10. Discussion and Recommendations

Agenda for the Pelagics and International Standing Committee

Monday, October 22, 2018, 8:30 a.m. to 12 p.m.

1. Introduction and Opening of Committee Meeting

2. Hawaii and American Samoa Longline Fisheries Reports

3. Managing Sea Turtle Interactions in the Hawaii Shallow-set Longline Fishery (Action Item)

4. Mandatory Electronic Reporting for Hawaii Longline Fishery (Action Item)

5. 93rd IATTC meeting

6. WCPFC meetings

a. Science Committee

b. Northern Committee

c. Technical and Compliance Committee

d. US WCPFC PAC recommendations

e. Council recommendations for WCPFC15

7. Advisory Groups Reports and Recommendations

a. Advisory Panels

b. Scientific & Statistical Committee

8. Other Issues

9. Public Comment

10. Committee Discussion and Action

Agenda for FDCRC Meeting

Monday, October 22, 2018, 1 p.m. to 3 p.m.

1. Welcome Remarks and Introductions

2. Update on previous FDCRC recommendations

3. Update on the reorganization of Western Pacific Fishery Information Network (WPacFIN) and implications to the Territories

4. Regulations for mandatory license and reporting

A. Guam

B. CNMI

5. Data collection improvement updates

A. American Samoa Department of Marine and Wildlife Resources (DMWR)

B. Guam Division of Aquatic and Wildlife Resources (DAWR)

C. CNMI Department of Land and Natural Resources (DLNR)—Division Fish and Wildlife (DFW)

D. Hawaii DLNR—Division Aquatic Resources (DAR)

E. Guam Bureau of Statistics and Plans (BSP)

F. Council

G. NMFS-PIFSC

6. Report on FDCRC-Technical Committee

7. Public Comment

8. Discussions and Recommendations

Agenda for the Executive and Budget Standing Committee Meeting

Monday, October 22, 2018, 3 p.m. to 5 p.m.

1. Financial Report

2. Administrative Report

3. Funding Request

4. Status of Marine Conservation Plans

5. Council Family Changes

A. Advisory Panel Selection

B. Advisory Group Changes

6. Legislative Status of Fisheries

7. Meetings and Workshops

8. EFH Workshop on Non-Fishing Impacts

9. Membership Appointments to Election Committee

10. Other Issues

11. Public Comment

12. Discussion and Recommendations

Agenda for the Guam REAC Meeting

Thursday, October 25, 2018, 1 p.m. to 4 p.m.

1. Welcome and Introductions

2. Review of 2017 Guam REAC Meeting

3. Guam Marine Product Import Database

4. Umatac Community Management

5. Fishing Community Perceptions on Marine Preserve Siting Process

6. Mandatory Permit and Reporting

7. Mariana Small-boat Economic Survey

8. Council 5-year Program Plan

a. Drivers, Programs and Priorities

b. Research Priorities

9. Aquaculture

10. Public Comment

11. Other Business

12. Discussion and Recommendations

Agenda for 174th Council Meeting

Tuesday, October 23, 2018, 8:30 a.m. to 5 p.m. (1 p.m.-1:30 p.m. CLOSED Session)

1. Welcome and Introductions

2. Oath of Office

3. Approval of the 174th Agenda

4. Approval of the 173rd Meeting Minutes

5. Executive Director's Report

6. Agency Reports

A. National Marine Fisheries Service

1. Pacific Islands Regional Office

2. Pacific Islands Fisheries Science Center

a. Ecosystem Based Fishery Management Regional Implementation Plan

b. Large Marine Ecosystem Initiative

B. NOAA Office of General Counsel, Pacific Islands Section

C. US State Department

D. US Fish and Wildlife Service

E. Enforcement

1. US Coast Guard

2. NOAA Office of Law Enforcement

3. NOAA Office of General Counsel, Enforcement Section

F. Public Comment

G. Council Discussion and Action

7. Mariana Archipelago-CNMI

A. Arongol Falú

B. Legislative Report

C. Enforcement Issues

D. Community Activities and Issues

E. Education and Outreach Initiatives

F. Marine Conservation Plan Projects

G. SPC Fisheries Development Adviser

H. Specification of CNMI Bottomfish MUS Annual Catch Limits for Fishing Year 2019 (Final Action)

I. Advisory Group Report and Recommendations

1. Advisory Panel

2. Regional Ecosystem Advisory Committee

3. Scientific & Statistical Committee

J. Public Hearing

K. Council Discussion and Action

8. Protected Species

A. Report of the Seabird Bycatch Mitigation Workshop

B. Status of the False Killer Whale Take Reduction Team Recommendations

C. Updates on ESA and MMPA Act Actions

D. Advisory Group Report and Recommendations

1. Advisory Panel

2. Regional Ecosystem Advisory Committee

3. Scientific & Statistical Committee

E. Public Comment

F. Council Discussion and Action

Tuesday, October 23, 2018, 1 p.m. to 1:30 p.m.

Update on Litigation (Closed Session—pursuant to MSA § 302(i)(3))

Tuesday, October 23, 2018, 6 p.m. to 9 p.m.

Fishers Forum—One Shot, One Fish: CNMI Non-Commercial Spear Fishery

Wednesday, October 24, 2018, 8:30 a.m. to 5 p.m.

9. Pelagic & International Fisheries

A. Hawaii & American Samoa Longline Fisheries Reports

B. Hawaii Shallow-Set Longline Fishery

1. Status of the Hawaii Shallow-set Longline ESA Consultation

2. Managing Loggerhead and Leatherback Sea Turtle Interactions in the Hawaii-based Shallow-set Longline Fishery (Final Action)

C. Electronic Monitoring/Electronic Reporting in Hawaii Longline Fishery

D. Mandatory Electronic Reporting for Hawaii Longline Fishery (Initial Action)

E. International Fisheries Meetings

1. International Science Committee

2. 93rd IATTC

3. WCPFC

a. Electronic Monitoring Working Group

b. Scientific Committee

c. Northern Committee

d. Technical and Compliance Committee

e. US WCPFC Permanent Advisory Committee

4. North Pacific Fisheries Commission

F. Advisory Group Report and Recommendations

1. Advisory Panel

2. Regional Ecosystem Advisory Committee

3. Scientific & Statistical Committee

G. Standing Committee Recommendations

H. Public Hearing

I. Council Discussion and Action

10. American Samoa Archipelago

A. Motu Lipoti

B. Fono Report

C. Enforcement Issues

D. Community Activities and Issues

E. Education and Outreach Initiatives

F. Marine Conservation Plan Projects

G. Specification of American Samoa Bottomfish MUS Annual Catch Limits for Fishing Year 2019 (Final Action)

H. Advisory Group Report and Recommendations

1. Advisory Panel

2. Scientific & Statistical Committee

I. Public Hearing

J. Council Discussion and Action

Wednesday, October 24, 2018, 4 p.m. to 5 p.m.

Public Comment on Non-agenda Items

Friday, October 26, 2018, 8:30 a.m. to 5 p.m.

11. Mariana Archipelago-Guam

A. Isla Informe

B. Legislative Report

C. Enforcement Issues

D. Community Activities and Issues

E. Education and Outreach Initiatives

F. Marine Conservation Plan

G. Guam Marine Resource Import Database

H. Fishing Community Perceptions on Marine Preserve Siting Process

I. Guam Bottomfish MUS Specification of Annual Catch Limits for Fishing Year 2019 (Final Action)

J. Guam Ocean Fishery Management Council Update

K. Advisory Group Report and Recommendations

1. Advisory Panel

2. Regional Ecosystem Advisory Committee

3. Scientific & Statistical Committee

L. Public Hearing

M. Council Discussion and Action

12. Program Planning and Research

A. Update on Aquaculture Management Program

B. Refining Precious Coral Essential Fish Habitat (Initial Action)

C. Discussion Paper on the Applicability of the NS1 Carry-Over Provisions to the Western Pacific Fisheries

D. Terms of Reference for the Benchmark Territory Bottomfish Management Unit Species Stock Assessment Review

E. Regional, National and International Outreach & Education

F. Advisory Group Report and Recommendations

1. Advisory Panel

2. Regional Ecosystem Advisory Committee

3. Scientific & Statistical Committee

G. Public Hearing

H. Council Discussion and Action

Friday, October 26, 2018, 6 p.m. to 9 p.m.

Fishers Forum: One Shot, One Fish: Guam Non-Commercial Spear Fishery

Saturday, October 27, 2018, 8:30 a.m. to 5 p.m.

13. Hawaii Archipelago & Pacific Remote Island Areas

A. Moku Pepa

B. Legislative Report

C. Enforcement Issues

D. Report of Removal of Bottomfish Restricted Fishing Areas

E. Specification of Annual Catch Limits (Final Action)

1. Hawaii Precious Corals for Fishing Year 2019 to 2021

2. Hawaii Deep Water Shrimp for Fishing Year 2019 to 2021

3. Main Hawaiian Islands Non-deep 7 bottomfish for Fishing Year 2019 to 2021

4. Hawaii Kona crab for Fishing Year 2019

F. Education and Outreach Initiatives

G. Advisory Group Report and Recommendations

1. Advisory Panel

2. Scientific & Statistical Committee

H. Public Hearing

I. Council Discussion and Action

14. Administrative Matters

A. Council Member and Staff Annual Training on Standards of Conduct

B. Financial Reports

C. Administrative Reports

D. Funding Requests

E. Council Family Changes

1. Advisory Panel Selection

2. Advisory Group Changes

F. Meetings and Workshops

G. Standing Committee Recommendations

H. Public Comment

I. Council Discussion and Action

15. Election of Officers

16. Other Business

Non-emergency issues not contained in this agenda may come before the Council for discussion and formal Council action during the 174th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: September 26, 2018.
Tracey L. Thompson,
Acting Deputy Director, Office of Sustainable Fisheries, National Marine Fisheries Service.

[FR Doc. 2018-21302 Filed 9-28-18; 8:45 am]

BILLING CODE 3510-22-P